DEPARTMENT OF TRANSPORTATION

Federal Highway Administration

[FHWA-KY-EIS-04-2-F, NH 65-1 (73)]

Notice of Availability of the Record of Decision for the I-65 to US 31W Access Improvement Final Environmental Impact Statement (FEIS)

AGENCY: Federal Highway Administration.

ACTION: Notice of Availability of Record of Decision (ROD).

SUMMARY: In accordance with the National Environmental Policy Act (NEPA) and Federal Highway Administration (FHWA) procedures, the FHWA announces the availability of the ROD to implement the I-65 to US 31W Access Improvement project in Warren County, Kentucky. The Division Administrator, FHWA-Kentucky Division signed the ROD on March 23, 2010.

ADDRESSES: The FHWA ROD for the I-65 to US 31W Access Improvement project can be viewed and downloaded from the project Web site at http://www.transportation.ky.gov/d3/I6531w, or viewed at public libraries in the project area.

FOR FURTHER INFORMATION: Mr. Anthony Goodman, Environmental Specialist, Federal Highway Administration, Kentucky Division; 330 West Broadway, Frankfort, Kentucky, 40601; normal business hours Monday-Friday, 8 a.m.-4:30 p.m. Eastern Standard Time; Phone 502-223-6742, E-mail Anthony.Goodman@dot.gov.

SUPPLEMENTARY INFORMATION: The I-65 to US 31W Access Improvement ROD was developed through preparation of the Final Environmental Impact Statement for I-65 to US 31W Access Improvement, prepared in accordance with the National Environmental Policy Act (NEPA). The decision is hereby made to implement the project that involves the construction of a new road linking I-65 and US 31W, construction of a full interchange with I-65 and a partial interchange with US 68/KY 80, and reconstruction of US 31W as it approaches the intersection of the new corridor. The project, which is approximately 3.8 miles in length, is northeast of the city of Bowling Green, in Warren County, Kentucky. The road will be six lanes with a depressed median from I-65 to US 68/KY 80, and four lanes with a depressed median from US 68/KY 80 to US 31W. The purpose of the project is to meet the existing and future transportation demands including improved access between I-65 and US 31W; and improved roadway capacity and safety conditions.

Authority: 23 U.S.C. 315; 49 CFR 1.48.

Issued on April 6, 2010.
Mr. Jose Sepulveda,
Division Administrator, FHWA-Kentucky Division.

[FR Doc. 2010-8437 Filed 4-14-10; 8:45 am]

BILLING CODE M